DEPARTMENT OF TRANSPORTATION

Federal Aviation Administration

14 CFR Part 71

[Docket No. FAA-2019-0627; Amendment No. 71-51]

RIN 2120-AA66

Airspace Designations; Incorporation by Reference Amendments

AGENCY: Federal Aviation Administration (FAA), DOT.

ACTION: Final rule, administrative correction.

SUMMARY: This action incorporates certain airspace designation amendments into FAA Order 7400.11D, dated August 8, 2019, and effective September 15, 2019, for incorporation by reference.

DATES: Effective date 0901 UTC October 3, 2019. The Director of the Federal Register approves this incorporation by reference action under Title 1 CFR part 51, subject to the annual revision of FAA Order 7400.11 and publication of conforming amendments.

ADDRESSES: FAA Order 7400.11D, Airspace Designations and Reporting Points, and subsequent amendments can be viewed on line at http://www.faa.gov/airtraffic/publications/. For further information, you can contact the Airspace Policy Group, Federal Aviation Administration, 800 Independence Avenue SW, Washington, DC 20591; telephone: (202) 267-8783. The Order is also available for inspection at the National Archives and Records Administration (NARA). For information on the availability of FAA Order 7400.11D at NARA, email: fedreg.legal@nara.gov or go to https://www.archives.gov/federal-register/cfr/ibr-locations.html.

FOR FURTHER INFORMATION CONTACT: Sarah A. Combs, Airspace Policy Group, Office of Airspace Services, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it makes the necessary updates for airspace areas within the National Airspace System.

History

Federal Aviation Administration Airspace Order 7400.11, Airspace Designations and Reporting Points, incorporated by reference in 14 CFR 71.1, is published yearly. Amendments referred to as “effective date straddling amendments” were published under Order 7400.11C (dated August 13, 2018, and effective September 15, 2018), but became effective under Order 7400.11D (dated August 8, 2019, and effective September 15, 2019). This action incorporates these rules into the current FAA Order 7400.11D.

Accordingly, as this is an administrative correction to update final rule amendments into FAA Order 7400.11D, notice and public procedure under 5 U.S.C. 553(b) are unnecessary. Also, to bring these rules and legal descriptions current, I find that good cause exists, under 5 U.S.C. 553(d), for making this amendment effective in less than 30 days.

Availability and Summary of Documents for Incorporation by Reference

This document amends FAA Order 7400.11D, Airspace Designations and Reporting Points, dated August 8, 2019, and effective September 15, 2019. FAA Order 7400.11D is publicly available as listed in the ADDRESSES section of this document. FAA Order 7400.11D lists Class A, B, C, D, and E airspace areas, air traffic service routes, and reporting points.

FAA Order 7400.11, Airspace Designations and Reporting Points, is published yearly and effective on September 15.

The Rule

This action amends Title 14 Code of Federal Regulations (14 CFR) part 71 by incorporating certain final rules into the current FAA Order 7400.11D, Airspace Designations and Reporting Points, dated August 8, 2019, and effective September 15, 2019, which are depicted on aeronautical charts.

Regulatory Notices and Analyses

The FAA has determined that this regulation only involves an established body of technical regulations for which frequent and routine amendments are necessary to keep them operationally current. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Corrections

1. For Docket No. FAA-2018-0250; Airspace Docket No. 17-AGL-3 (84 FR 8414; March 8, 2019)

Correction

a. On page 8414, column 2, line 17, and line 30, under ADDRESSES, “. . . FAA Order 7400.11C . . .” is corrected to read “. . . FAA Order 7400.11D . . .”.

b. On page 8414, column 3, line 32, and line 34, under Availability and Summary of Documents for Incorporation by Reference, “. . . FAA Order 7400.11C . . .” is corrected to read “. . . FAA Order 7400.11D . . .”.

c. On page 8414, column 3, line 28, under History, “. . .FAA Order 7400.11C, dated August 13, 2018, and effective September 15, 2018, . . .” is corrected to read “. . . FAA Order 7400.11D, dated August 8, 2019, and effective September 15, 2019 . . .”.

d. On page 8414, column 3, line 28, under Availability and Summary of Documents for Incorporation by Reference, “. . . FAA Order 7400.11C Airspace Designations and Reporting Points, dated August 13, 2018, and effective September 15, 2018, . . .” is corrected to read “. . . FAA Order 7400.11D, Airspace Designations and Reporting Points, dated August 8, 2019, and effective September 15, 2019, . . .”.

§ 71.1 [Corrected]

e. On page 8415, column 1, line 40, under Amendatory Instruction 2, “. . . FAA Order 7400.11C, Airspace Designations and Reporting Points, dated August 13, 2018, and effective September 15, 2018, . . .” is corrected to read “. . . FAA Order 7400.11D, Airspace Designations and Reporting Points, dated August 8, 2019, and effective September 15, 2019, . . .”.

2. For Docket No. FAA-2019-0035; Airspace Docket No. 19-ASW-2 (84 FR 20257, May 9, 2019).

Correction

a. On page 20257, column 2, line 49, and line 3, under ADDRESSES, “ . . . FAA Order 7400.11C. . .” is corrected to read “. . . FAA Order 7400.11D . . .”.

b. On page 20257, column 3, line 61, and line 63, under Availability and Summary of Documents for Incorporation by Reference, “. . . FAA Order 7400.11C . . .” is corrected to read “. . . FAA Order 7400.11D . . .”.

c. On page 20257, column 3, line 47, under History, “. . . FAA Order 7400.11C, dated August 13, 2018, and effective September 15, 2018, . . .” is corrected to read “. . . FAA Order 7400.11D, dated August 8, 2019, and effective September 15, 2019 . . .”.

d. On page 20257, column 3, line 57, under Availability and Summary of Documents for Incorporation by Reference, “. . . FAA Order 7400.11C, Airspace Designations and Reporting Points, dated August 13, 2018, and effective September 15, 2018, . . .” is corrected to read “. . . FAA Order 7400.11D, Airspace Designations and Reporting Points, dated August 8, 2019, and effective September 15, 2019, . . .”.

§ 71.1 [Corrected]

e. On page 20258, column 2, line 12, under Amendatory Instruction 2, “. . . FAA Order 7400.11C, Airspace Designations and Reporting Points, dated August 13, 2018, and effective September 15, 2018, . . .” is corrected to read “. . . FAA Order 7400.11D, Airspace Designations and Reporting Points, dated August 8, 2019, and effective September 15, 2019, . . .”.

3. For Docket No. FAA-2019-0107; Airspace Docket No. 19-ASW-4 (84 FR 22701, May 20, 2019).

Correction

a. On page 22701, column 1, line 27, and line 10, under ADDRESSES, “. . . FAA Order 7400.11C . . .” is corrected to read “. . . FAA Order 7400.11D . . .”.

b. On page 22701, column 2, line 42, and line 44, under Availability and Summary of Documents for Incorporation by Reference, “. . . FAA Order 7400.11C . . .” is corrected to read “. . . FAA Order 7400.11D . . .”.

c. On page 22701, column 2, line 28, under History, “. . . FAA Order 7400.11C, dated August 13, 2018, and effective September 15, 2018, . . .” is corrected to read “. . . FAA Order 7400.11D, dated August 8, 2019, and effective September 15, 2019 . . .”.

d. On page 22701, column 2, line 38, under Availability and Summary of Documents for Incorporation by Reference, “. . . FAA Order 7400.11C, Airspace Designations and Reporting Points, dated August 13, 2018, and effective September 15, 2018, . . .” is corrected to read “. . . FAA Order 7400.11D, Airspace Designations and Reporting Points, dated August 8, 2019, and effective September 15, 2019, . . .”.

§ 71.1 [Corrected]

e. On page 22701, column 3, line 45, under Amendatory Instruction 2 “. . . FAA Order 7400.11C, Airspace Designations and Reporting Points, dated August 13, 2018, and effective September 15, 2018, . . .” is corrected to read “. . . FAA Order 7400.11D, Airspace Designations and Reporting Points, dated August 8, 2019, and effective September 15, 2019, . . .”.

4. For Docket No. FAA-2018-0985; Airspace Docket No. 18-AWP-19 (84 FR 34051, July 17, 2019).

Correction

a. On page 34051, column 1, line 45, and column 2, line 3, under ADDRESSES, “. . . FAA Order 7400.11C . . .” is corrected to read “. . . FAA Order 7400.11D . . .”.

b. On page 34051, column 3, line 8, and line 10, under Availability and Summary of Documents for Incorporation by Reference, “. . . FAA Order 7400.11C . . .” is corrected to read “. . . FAA Order 7400.11D . . .”.

c. On page 34051, column 2, line 53, under History, “. . . FAA Order 7400.11C, dated August 13, 2018, and effective September 15, 2018, . . .” is corrected to read “. . . FAA Order 7400.11D, dated August 8, 2019, and effective September 15, 2019 . . .”.

d. On page 34051, column 3, line 4, under Availability and Summary of Documents for Incorporation by Reference, “. . . FAA Order 7400.11C, Airspace Designations and Reporting Points, dated August 13, 2018, and effective September 15, 2018, . . .” is corrected to read “. . . FAA Order 7400.11D, Airspace Designations and Reporting Points, dated August 8, 2019, and effective September 15, 2019, . . .”.

§ 71.1 [Corrected]

e. On page 34052, column 3, line 16, under Amendatory Instruction 2, “. . . FAA Order 7400.11C, Airspace Designations and Reporting Points, dated August 13, 2018, and effective September 15, 2018, . . .” is corrected to read “. . . FAA Order 7400.11D, Airspace Designations and Reporting Points, dated August 8, 2019, and effective September 15, 2019, . . .”.

5. For Docket No. FAA-2018-1026; Airspace Docket No. 18-AEA-20 (84 FR 34054, July 17, 2019).

Correction

a. On page 34054, column 3, line 40, and line 53, under ADDRESSES, “. . . FAA Order 7400.11C . . .” is corrected to read “. . . FAA Order 7400.11D. . .”.

b. On page 34055, column 1, line 58, and line 60, under Availability and Summary of Documents for Incorporation by Reference “. . . FAA Order 7400.11C . . .” is corrected to read “. . . FAA Order 7400.11D . . .”.

c. On page 34055, column 1, line 44, under History, “. . . FAA Order 7400.11C, dated August 13, 2018, and effective September 15, 2018, . . .” is corrected to read “. . . FAA Order 7400.11D, dated August 8, 2019, and effective September 15, 2019 . . .”.

d. On page 34055, column 1, line 54, under Availability and Summary of Documents for Incorporation by Reference, “. . . FAA Order 7400.11C, Airspace Designations and Reporting Points, dated August 13, 2018, and effective September 15, 2018, . . .” is corrected to read “. . . FAA Order 7400.11D, Airspace Designations and Reporting Points, dated August 8, 2019, and effective September 15, 2019, . . . ”.

§ 71.1 [Corrected]

e. On page 34055, column 3, line 29, under Amendatory Instruction 2, “. . . FAA Order 7400.11C, Airspace Designations and Reporting Points, dated August 13, 2018, and effective September 15, 2018, . . .” is corrected to read “. . . FAA Order 7400.11D, Airspace Designations and Reporting Points, dated August 8, 2019, and effective September 15, 2019, . . . ”.

6. For Docket No. FAA-2018-0816; Airspace Docket No. 18-AWP-7 (84 FR 34055, July 17, 2019).

Correction

a. On page 34056, column 1, line 16, under ADDRESSES, “. . . FAA Order 7400.11C. . .” is corrected to read “. . . FAA Order 7400.11D. . .”.

b. On page 34056, column 2, line 29, and line 31, under Availability and Summary of Documents for Incorporation by Reference, “. . . FAA Order 7400.11C . . .” is corrected to read “. . . FAA Order 7400.11D. . .”.

c. On page 34056, column 2, line 15, under History, “. . . FAA Order 7400.11C, dated August 13, 2018, and effective September 15, 2018, . . .” is corrected to read “. . . FAA Order 7400.11D, dated August 8, 2019, and effective September 15, 2019 . . .”.

d. On page 34056, column 2, line 25, under Availability and Summary of Documents for Incorporation by Reference, “. . . FAA Order 7400.11C, Airspace Designations and Reporting Points, dated August 13, 2018, and effective September 15, 2018, . . .” is corrected to read “. . . FAA Order 7400.11D, Airspace Designations and Reporting Points, dated August 8, 2019, and effective September 15, 2019, . ”.

§ 71.1 [Corrected]

e. On page 34056, column 3, line 38, under Amendatory Instruction 2, “. . . FAA Order 7400.11C, Airspace Designations and Reporting Points, dated August 13, 2018, and effective September 15, 2018, . . .” is corrected to read “. . . FAA Order 7400.11D, Airspace Designations and Reporting Points, dated August 8, 2019, and effective September 15, 2019, . . .”.

7. For Docket No. FAA-2019-0347; Airspace Docket No. 19-AEA-6 (84 FR 35290, July 23, 2019).

Correction

a. On page 35291, column 1, line 4, and line 17, under ADDRESSES, “. . . FAA Order 7400.11C . . .” is corrected to read “. . . FAA Order 7400.11D . . .”.

b. On page 35291, column 2, line 38, and line 40, under Availability and Summary of Documents for Incorporation by Reference, “. . . FAA Order 7400.11C . . .” is corrected to read “. . . FAA Order 7400.11D . . .”.

c. On page 35291, column 2, line 24, under History, “. . . FAA Order 7400.11C, dated August 13, 2018, and effective September 15, 2018, . . .” is corrected to read “. . . FAA Order 7400.11D, dated August 8, 2019, and effective September 15, 2019. . .”.

d. On page 35291, column 2, line 34, under Availability and Summary of Documents for Incorporation by Reference, “. . . FAA Order 7400.11C, Airspace Designations and Reporting Points, dated August 13, 2018, and effective September 15, 2018, . . .” is corrected to read “. . . FAA Order 7400.11D, Airspace Designations and Reporting Points, dated August 8, 2019, and effective September 15, 2019, . . .”.

§ 71.1 [Corrected]

e. On page 35291, column 3, line 49, under Amendatory Instruction 2, “. . . FAA Order 7400.11C, Airspace Designations and Reporting Points, dated August 13, 2018, and effective September 15, 2018, . . .” is corrected to read “. . . FAA Order 7400.11D, Airspace Designations and Reporting Points, dated August 8, 2019, and effective September 15, 2019, . . .”.

8. For Docket No. FAA-2018-0713; Airspace Docket No. 18-AWP-10 (84 FR 35292, July 23, 2019).

Correction

a. On page 35292, column 2, line 11, and line 24, under ADDRESSES, “. . . FAA Order 7400.11C . . .” is corrected to read “. . . FAA Order 7400.11D . . .”.

b. On page 35292, column 3, line 15, and line 17, under Availability and Summary of Documents for Incorporation by Reference, “. . . FAA Order 7400.11C. . .” is corrected to read “ . . . FAA Order 7400.11D. . .”.

c. On page 35293, column 1, line 26, under The Rule, “. . . FAA Order 7400.11C, dated August 13, 2018, and effective September 15, 2018, . . .” is corrected to read “. . . FAA Order 7400.11D, dated August 8, 2019, and effective September 15, 2019 . . .”.

d. On page 35292, column 3, line 11, under Availability and Summary of Documents for Incorporation by Reference, “. . . FAA Order 7400.11C, Airspace Designations and Reporting Points, dated August 13, 2018, and effective September 15, 2018,. . .” is corrected to read “. . . FAA Order 7400.11D, Airspace Designations and Reporting Points, dated August 8, 2019, and effective September 15, 2019, . . .”.

§ 71.1 [Corrected]

e. On page 35293, column 2, line 40, under Amendatory Instruction 2, “. . . FAA Order 7400.11C, Airspace Designations and Reporting Points, dated August 13, 2018, and effective September 15, 2018, . . .” is corrected to read “. . . FAA Order 7400.11D, Airspace Designations and Reporting Points, dated August 8, 2019, and effective September 15, 2019, . . .”.

9. For Docket No. FAA-2019-0060; Airspace Docket No. 18-ASO-20 (84 FR 35538, July 24, 2019).

Correction

a. On page 35538, column 2, line 28, and line 41, under ADDRESSES, “. . . FAA Order 7400.11C . . .” is corrected to read “. . . FAA Order 7400.11D . . .”.

b. On page 35538, column 3, line 41, and line 43, under Availability and Summary of Documents for Incorporation by Reference, “. . . FAA Order 7400.11C . . .” is corrected to read “. . . FAA Order 7400.11D . . .”.

c. On page 35538, column 3, line 27, under History, “. . . FAA Order 7400.11C, dated August 13, 2018, and effective September 15, 2018, . . .” is corrected to read “. . . FAA Order 7400.11D, dated August 8, 2019, and effective September 15, 2019 . . .”.

d. On page 35538, column 3, line 37, under Availability and Summary of Documents for Incorporation by Reference, “. . . FAA Order 7400.11C, Airspace Designations and Reporting Points, dated August 13, 2018, and effective September 15, 2018, . . .” is corrected to read “. . . FAA Order 7400.11D, Airspace Designations and Reporting Points, dated August 8, 2019, and effective September 15, 2019, . . .”.

§ 71.1 [Corrected]

e. On page 35539, column 2, line 12, under Amendatory Instruction 2, “. . . FAA Order 7400.11C, Airspace Designations and Reporting Points, dated August 13, 2018, and effective September 15, 2018, . . .” is corrected to read “. . . FAA Order 7400.11D, Airspace Designations and Reporting Points, dated August 8, 2019, and effective September 15, 2019, . . .”.

10. For Docket No. FAA-2019-0222; Airspace Docket No. 19-ASW-5 (84 FR 35819, July 25, 2019).

Correction

a. On page 35819, column 1, line 30, and line 43, under ADDRESSES, “. . . FAA Order 7400.11C. . .” is corrected to read “. . . FAA Order 7400.11D . . .”.

b. On page 35819, column 2, line 41, and line 43, under Availability and Summary of Documents for Incorporation by Reference, “. . . FAA Order 7400.11C . . .” is corrected to read “. . . FAA Order 7400.11D . . .”.

c. On page 39587, column 2, line 37, under Availability and Summary of Documents for Incorporation by Reference, “. . . FAA Order 7400.11C . . .” is corrected to read “. . . FAA Order 7400.11D . . .”.

§ 71.1 [Corrected]

d. On page 35819, column 3, line 49, under Amendatory Instruction 2, “. . . FAA Order 7400.11C, Airspace Designations and Reporting Points, dated August 13, 2018, and effective September 15, 2018, . . .” is corrected to read “. . . FAA Order 7400.11D, Airspace Designations and Reporting Points, dated August 8, 2019, and effective September 15, 2019, . . .”.

11. For Docket No. FAA-2019-0273; Airspace Docket No. 19-AGL-10 (84 FR 36466, July 29, 2019).

Correction

a. On page 36466, column 2, line 17, and line 30, under ADDRESSES, “. . . FAA Order 7400.11C . . .” is corrected to read “. . . FAA Order 7400.11D . . .”.

b. On page 36466, column 3, line 29, and line 32, under Availability and Summary of Documents for Incorporation by Reference, “. . . FAA Order 7400.11C . . .” is corrected to read “. . . FAA Order 7400.11D . . .”.

c. On page 36466, column 3, line 16, under History, “. . . FAA Order 7400.11C, dated August 13, 2018, and effective September 15, 2018, . . .” is corrected to read “. . . FAA Order 7400.11D, dated August 8, 2019, and effective September 15, 2019. . .”.

d. On page 36466, column 3, line 26, under Availability and Summary of Documents for Incorporation by Reference “. . . FAA Order 7400.11C, Airspace Designations and Reporting Points, dated August 13, 2018, and effective September 15, 2018, . . .” is corrected to read “. . . FAA Order 7400.11D, Airspace Designations and Reporting Points, dated August 8, 2019, and effective September 15, 2019, . . ”.

§ 71.1 [Corrected]

e. On page 36467, column 1, line 36, under Amendatory Instruction 2, “. . . FAA Order 7400.11C, Airspace Designations and Reporting Points, dated August 13, 2018, and effective September 15, 2018, . . .” is corrected to read “. . . FAA Order 7400.11D, Airspace Designations and Reporting Points, dated August 8, 2019, and effective September 15, 2019, . . .”.

12. For Docket No. FAA-2018-1022; Airspace Docket No. 18-ANE-8 (84 FR 36467, July 29, 2019).

Correction

a. On page 36467, column 1, line 9, under ADDRESSES, “. . . FAA Order 7400.11C . . .” is corrected to read “. . . FAA Order 7400.11D . . .”.

b. On page 36467, column 3, line 45, and line 47, under Availability and Summary of Documents for Incorporation by Reference, “. . . FAA Order 7400.11C . . .” is corrected to read “. . . FAA Order 7400.11D . . .”.

c. On page 36467, column 3, line 31, under History, “. . . FAA Order 7400.11C, dated August 13, 2018, and effective September 15, 2018, . . .” is corrected to read “. . . FAA Order 7400.11D, dated August 8, 2019, and effective September 15, 2019. . .”.

d. On page 36467, column 3, line 41, under Availability and Summary of Documents for Incorporation by Reference, “. . . FAA Order 7400.11C, Airspace Designations and Reporting Points, dated August 13, 2018, and effective September 15, 2018, . . .” is corrected to read “. . . FAA Order 7400.11D, Airspace Designations and Reporting Points, dated August 8, 2019, and effective September 15, 2019, . . .”.

§ 71.1 [Corrected]

e. On page 36468, column 2, line 37, under Amendatory Instruction 2, “. . . FAA Order 7400.11C, Airspace Designations and Reporting Points, dated August 13, 2018, and effective September 15, 2018, . . .” is corrected to read “. . . FAA Order 7400.11D, Airspace Designations and Reporting Points, dated August 8, 2019, and effective September 15, 2019, . . .”.

13. For Docket No. FAA-2019-0310; Airspace Docket No. 19-ACE-7 (84 FR 37961, August 5, 2019).

a. On page 37961, column 2, line 33, and line 46, under ADDRESSES, “. . . FAA Order 7400.11C . . .” is corrected to read “. . . FAA Order 7400.11D . . .”.

b. On page 37961, column 3, line 51, and line 53, under Availability and Summary of Documents for Incorporation by Reference, “. . . FAA Order 7400.11C . . .” is corrected to read “. . . FAA Order 7400.11D . . .”.

c. On page 37961, column 3, line 37, under History, “. . . FAA Order 7400.11C, dated August 13, 2018, and effective September 15, 2018, . . .” is corrected to read “. . . FAA Order 7400.11D, dated August 8, 2019, and effective September 15, 2019 . . .”.

d. On page 37961, column 3, line 47, under Availability and Summary of Documents for Incorporation by Reference, “. . . FAA Order 7400.11C, Airspace Designations and Reporting Points, dated August 13, 2018, and effective September 15, 2018,. . .” is corrected to read “. . . FAA Order 7400.11D, Airspace Designations and Reporting Points, dated August 8, 2019, and effective September 15, 2019, . . .”.

§ 71.1 [Corrected]

e. On page 37962 column 2, line 3, under Amendatory Instruction 2, “. . . FAA Order 7400.11C, Airspace Designations and Reporting Points, dated August 13, 2018, and effective September 15, 2018, . . .” is corrected to read “. . . FAA Order 7400.11D, Airspace Designations and Reporting Points, dated August 8, 2019, and effective September 15, 2019, . . .”.

14. For Docket No. FAA-2019-0277; Airspace Docket No. 19-ACE-4 (84 FR 38865, August 8, 2019).

a. On page 38865, column 1, line 29, and line 54, under ADDRESSES, “. . . FAA Order 7400.11C . . .” is corrected to read “. . . FAA Order 7400.11D . . .”.

b. On page 38865, column 2, line 46, and line 49, under Availability and Summary of Documents for Incorporation by Reference, “. . . FAA Order 7400.11C . . .” is corrected to read “. . . FAA Order 7400.11D . . .”.

c. On page 38865, column 2, line 33, under History, “. . . FAA Order 7400.11C, dated August 13, 2018, and effective September 15, 2018, . . .” is corrected to read “. . . FAA Order 7400.11D, dated August 8, 2019, and effective September 15, 2019 . . .”.

d. On page 38865, column 2, line 43, under Availability and Summary of Documents for Incorporation by Reference “. . . FAA Order 7400.11C, Airspace Designations and Reporting Points, dated August 13, 2018, and effective September 15, 2018, . . .” is corrected to read “. . . FAA Order 7400.11D, Airspace Designations and Reporting Points, dated August 8, 2019, and effective September 15, 2019, . . .”.

§ 71.1 [Corrected]

e. On page 38865, column 3, line 56, under Amendatory Instruction 2, “. . . FAA Order 7400.11C, Airspace Designations and Reporting Points, dated August 13, 2018, and effective September 15, 2018, . . .” is corrected to read “. . . FAA Order 7400.11D, Airspace Designations and Reporting Points, dated August 8, 2019, and effective September 15, 2019, . . .”.

15. For Docket No. FAA-2018-0816; Airspace Docket No. 18-AWP-7 (84 FR 39177, August 9, 2019).

Correction

a. On page 39178, column 1, line 5, and line 18, under ADDRESSES, “. . . FAA Order 7400.11C . . .” is corrected to read “. . . FAA Order 7400.11D . . .”.

b. On page 39178, column 2, line 32, and line 35, under Availability and Summary of Documents for Incorporation by Reference, “. . . FAA Order 7400.11C . . .” is corrected to read “. . . FAA Order 7400.11D . . .”.

c. On page 39178, column 1, line 37, under History, “. . . FAA Order 7400.11C, dated August 13, 2018, and effective September 15, 2018, . . .” is corrected to read “. . . FAA Order 7400.11D, dated August 8, 2019, and effective September 15, 2019 . . .”.

d. On page 39178, column 2, line 28, under Availability and Summary of Documents for Incorporation by Reference, “. . . FAA Order 7400.11C, Airspace Designations and Reporting Points, dated August 13, 2018, and effective September 15, 2018, . . .” is corrected to read “. . . FAA Order 7400.11D, Airspace Designations and Reporting Points, dated August 8, 2019, and effective September 15, 2019, . . .”.

16. For Docket No. FAA-2019-0358; Airspace Docket No. 19-AEA-7 (84 FR 40227, August 14, 2019).

Correction

a. On page 40227, column 2, line 42, and line 55, under ADDRESSES, “. . . FAA Order 7400.11C. . .” is corrected to read “. . . FAA Order 7400.11D . . .”.

b. On page 40227, column 2, line 63, and line 65, under Availability and Summary of Documents for Incorporation by Reference, “. . . FAA Order 7400.11C. . .” is corrected to read “. . . FAA Order 7400.11D . . .”.

c. On page 40227, column 3, line 49, under History, “. . . FAA Order 7400.11C, dated August 13, 2018, and effective September 15, 2018, . . .” is corrected to read “. . . FAA Order 7400.11D, dated August 8, 2019, and effective September 15, 2019 . . .”.

d. On page 40227, column 3, line 59, under Availability and Summary of Documents for Incorporation by Reference, “. . . FAA Order 7400.11C, Airspace Designations and Reporting Points, dated August 13, 2018, and effective September 15, 2018, . . .” is corrected to read “. . . FAA Order 7400.11D, Airspace Designations and Reporting Points, dated August 8, 2019, and effective September 15, 2019, . . .”.

§ 71.1 [Corrected]

e. On page 40228, column 2, line 6, under Amendatory Instruction 2, “. . . FAA Order 7400.11C, Airspace Designations and Reporting Points, dated August 13, 2018, and effective September 15, 2018, . . .” is corrected to read “. . . FAA Order 7400.11D, Airspace Designations and Reporting Points, dated August 8, 2019, and effective September 15, 2019, . . .”.

17. For Docket No. FAA-2019-0336; Airspace Docket No. 19-AGL-11 (84 FR 41908, August 16, 2019).

Correction

a. On page 41908, column 1, line 42, and line 55, under ADDRESSES, “. . . FAA Order 7400.11C . . .” is corrected to read “. . . FAA Order 7400.11D . . .”.

b. On page 41908, column 2, line 61, and line 63, under Availability and Summary of Documents for Incorporation by Reference, “. . . FAA Order 7400.11C . . .” is corrected to read “. . . FAA Order 7400.11D . . .”.

c. On page 41908, column 2, line 57, under History, “. . . FAA Order 7400.11C, dated August 13, 2018, and effective September 15, 2018, . . .” is corrected to read “. . . FAA Order 7400.11D, dated August 8, 2019, and effective September 15, 2019 . . .”.

d. On page 44908, column 2, line 57, under Availability and Summary of Documents for Incorporation by Reference, “. . . FAA Order 7400.11C, Airspace Designations and Reporting Points, dated August 13, 2018, and effective September 15, 2018, . . .” is corrected to read “. . . FAA Order 7400.11D, Airspace Designations and Reporting Points, dated August 8, 2019, and effective September 15, 2019, . . .”.

§ 71.1 [Corrected]

e. On page 41909, column 1, line 12, under Amendatory Instruction 2, “. . . FAA Order 7400.11C, Airspace Designations and Reporting Points, dated August 13, 2018, and effective September 15, 2018, . . .” is corrected to read “. . . FAA Order 7400.11D, Airspace Designations and Reporting Points, dated August 8, 2019, and effective September 15, 2019, . . .”.

18. For Docket No. FAA-2019-0355; Airspace Docket No. 19-AGL-15 (84 FR 43042, August 20, 2019).

Correction

a. On page 43042, column 1, line 41, and line 54, under ADDRESSES, “. . . FAA Order 7400.11C . . .” is corrected to read “. . . FAA Order 7400.11D . . .”.

b. On page 43042, column 2, line 58, and line 60, under Availability and Summary of Documents for Incorporation by Reference, “. . . FAA Order 7400.11C . . .” is corrected to read “. . . FAA Order 7400.11D . . .”.

c. On page 43042, column 2, line 44, under History, “. . . FAA Order 7400.11C, dated August 13, 2018, and effective September 15, 2018, . . .” is corrected to read “. . . FAA Order 7400.11D, dated August 8, 2019, and effective September 15, 2019 . . .”.

d. On page 43042, column 2, line 54, under Availability and Summary of Documents for Incorporation by Reference, “. . . FAA Order 7400.11C, Airspace Designations and Reporting Points, dated August 13, 2018, and effective September 15, 2018, . . .” is corrected to read “. . . FAA Order 7400.11D, Airspace Designations and Reporting Points, dated August 8, 2019, and effective September 15, 2019, . . .”.

§ 71.1 [Corrected]

e. On page 43043, column 1, line 12, under Amendatory Instruction 2, “. . . FAA Order 7400.11C, Airspace Designations and Reporting Points, dated August 13, 2018, and effective September 15, 2018, . . .” is corrected to read “. . . FAA Order 7400.11D, Airspace Designations and Reporting Points, dated August 8, 2019, and effective September 15, 2019, . . .”.

19. For Docket No. FAA-2019-0347; Airspace Docket No. 19-AEA-6 (84 FR 46438, September 4, 2019).

Correction

a. On page 46438, column 2, line 3, and line 5, under Availability and Summary of Documents for Incorporation by Reference, “. . . FAA Order 7400.11C . . .” is corrected to read “. . . FAA Order 7400.11D . . .”.

b. On page 46438, column 1, line 49, under History, “. . . FAA Order 7400.11C, dated August 13, 2018, and effective September 15, 2018, . . .” is corrected to read “. . . FAA Order 7400.11D, dated August 8, 2019, and effective September 15, 2019 . . .”.

c. On page 46438, column 1, line 60, under Availability and Summary of Documents for Incorporation by Reference, “. . . FAA Order 7400.11C, Airspace Designations and Reporting Points, dated August 13, 2018, and effective September 15, 2018, . . .” is corrected to read “. . . FAA Order 7400.11D, Airspace Designations and Reporting Points, dated August 8, 2019, and effective September 15, 2019, . . .”.

20. For Docket No. FAA-2019-0390; Airspace Docket No. 19-ANM-9 (84 FR 46877, September 6, 2019).

Correction

a. On page 46877, column 3, line 29, and line 43, under ADDRESSES, “. . . FAA Order 7400.11C . . .” is corrected to read “. . . FAA Order 7400.11D . . .”.

b. On page 46878, column 1, line 45, and line 47, under Availability and Summary of Documents for Incorporation by Reference, “. . . FAA Order 7400.11C . . .” is corrected to read “. . . FAA Order 7400.11D . . .”.

c. On page 46878, column 1, line 31, under History, “. . . FAA Order 7400.11C, dated August 13, 2018, and effective September 15, 2018, . . .” is corrected to read “. . . FAA Order 7400.11D, dated August 8, 2019, and effective September 15, 2019. . .”.

d. On page 46878, column 1, line 41, under Availability and Summary of Documents for Incorporation by Reference, “. . . FAA Order 7400.11C, Airspace Designations and Reporting Points, dated August 13, 2018, and effective September 15, 2018, . . .” is corrected to read “. . . FAA Order 7400.11D, Airspace Designations and Reporting Points, dated August 8, 2019, and effective September 15, 2019, . . .”.

§ 71.1 [Corrected]

e. On page 46878, column 2, line 56, under Amendatory Instruction 2, “. . . FAA Order 7400.11C, Airspace Designations and Reporting Points, dated August 13, 2018, and effective September 15, 2018, . . .” is corrected to read “. . . FAA Order 7400.11D, Airspace Designations and Reporting Points, dated August 8, 2019, and effective September 15, 2019, . . .”.

21. For Docket No. FAA-2017-0890; Airspace Docket No. 16-ACE-10 (84 FR 47413, September 10, 2019).

Correction

a. On page 47413, column 3, line 27, and line 40, under ADDRESSES, “. . . FAA Order 7400.11C . . .” is corrected to read “. . . FAA Order 7400.11D . . .”.

b. On page 47414, column 1, line 46, and line 49, under Availability and Summary of Documents for Incorporation by Reference, “. . . FAA Order 7400.11C . . .” is corrected to read “. . . FAA Order 7400.11D . . .”.

c. On page 47414, column 1, line 32, under History, “. . . FAA Order 7400.11C, dated August 13, 2018, and effective September 15, 2018, . . .” is corrected to read “. . . FAA Order 7400.11D, dated August 8, 2019, and effective September 15, 2019. . .”.

d. On page 47414, column 1, line 43, under Availability and Summary of Documents for Incorporation by Reference, “. . . FAA Order 7400.11C, Airspace Designations and Reporting Points, dated August 13, 2018, and effective September 15, 2018, . . .” is corrected to read “. . . FAA Order 7400.11D, Airspace Designations and Reporting Points, dated August 8, 2019, and effective September 15, 2019, . . .”.

§ 71.1 [Corrected]

e. On page 47414, column 3, line 12, under Amendatory Instruction 2, “. . . FAA Order 7400.11C, Airspace Designations and Reporting Points, dated August 13, 2018, and effective September 15, 2018, . . .” is corrected to read “. . . FAA Order 7400.11D, Airspace Designations and Reporting Points, dated August 8, 2019, and effective September 15, 2019, . . .”.

22. For Docket No. FAA-2019-0450; Airspace Docket No. 19-ASO-12 (84 FR 47415, September 10, 2019).

Correction

a. On page 47415, column 1, line 31, and line 44, under ADDRESSES, “. . . FAA Order 7400.11C . . .” is corrected to read “. . . FAA Order 7400.11D . . .”.

b. On page 47415, column 2, line 49, and line 51, under Availability and Summary of Documents for Incorporation by Reference, “. . . FAA Order 7400.11C . . .” is corrected to read “. . . FAA Order 7400.11D . . .”.

c. On page 47415 column 2, line 35, under History, “. . . FAA Order 7400.11C, dated August 13, 2018, and effective September 15, 2018, . . .” is corrected to read “. . . FAA Order 7400.11D, dated August 8, 2019, and effective September 15, 2019. . .”.

d. On page 47415, column 2, line 45, under Availability and Summary of Documents for Incorporation by Reference, “. . . FAA “. . . FAA Order 7400.11C, Airspace Designations and Reporting Points, dated August 13, 2018, and effective September 15, 2018, . . .” is corrected to read “. . . FAA Order 7400.11D, Airspace Designations and Reporting Points, dated August 8, 2019, and effective September 15, 2019, . . .”.

§ 71.1 [Corrected]

e. On page 47416, column 1, line 6, under Amendatory Instruction 2, “. . . FAA Order 7400.11C, Airspace Designations and Reporting Points, dated August 13, 2018, and effective September 15, 2018, . . .” is corrected to read “. . . FAA Order 7400.11D, Airspace Designations and Reporting Points, dated August 8, 2019, and effective September 15, 2019, . . .”.

23. For Docket No. FAA-2019-0344; Airspace Docket No. 19-ASW-7 (84 FR 48052, September 12, 2019).

Correction

a. On page 48053, column 1, line 5, and line 18, under ADDRESSES, “. . . FAA Order 7400.11C . . .” is corrected to read “. . . FAA Order 7400.11D . . .”.

b. On page 48053, column 2, line 15, and line 18, under Availability and Summary of Documents for Incorporation by Reference, “. . . FAA Order 7400.11C . . .” is corrected to read “. . . FAA Order 7400.11D . . .”.

c. On page 48053, column 2, line 2, under History, “. . . FAA Order 7400.11C, dated August 13, 2018, and effective September 15, 2018, . . .” is corrected to read “. . . FAA Order 7400.11D, dated August 8, 2019, and effective September 15, 2019. . .”.

d. On page 48053, column 2, line 12, under Availability and Summary of Documents for Incorporation by Reference, “. . . FAA Order 7400.11C, Airspace Designations and Reporting Points, dated August 13, 2018, and effective September 15, 2018, . . .” is corrected to read “. . . FAA Order 7400.11D, Airspace Designations and Reporting Points, dated August 8, 2019, and effective September 15, 2019, . . .”.

§ 71.1 [Corrected]

e. On page 48053, column 3, line 34, under Amendatory Instruction 2, “. . . FAA Order 7400.11C, Airspace Designations and Reporting Points, dated August 13, 2018, and effective September 15, 2018, . . .” is corrected to read “. . . FAA Order 7400.11D, Airspace Designations and Reporting Points, dated August 8, 2019, and effective September 15, 2019, . . .”.

Issued in Washington, DC, on September 25, 2019.
Rodger A. Dean, Jr.,
Manager, Airspace Policy Group.

[FR Doc. 2019-21364 Filed 10-2-19; 8:45 am]

BILLING CODE 4910-13-P